DEPARTMENT OF DEFENSE

Department of the Navy

Certificate of Alternate Compliance for USS CLEVELAND (LCS 31)

AGENCY: Department of the Navy (DoN), Department of Defense (DoD).

ACTION: Notice of issuance of Certificate of Alternate Compliance.

SUMMARY: The U.S. Navy hereby announces that a Certificate of Alternate Compliance has been issued for USS Cleveland (LCS 31). Due to the special construction and purpose of this vessel, the Admiralty Counsel of the Navy has determined it is a vessel of the Navy which, due to its special construction and purpose, cannot comply fully with the navigation lights provisions of the International Regulations for Preventing Collisions at Sea, 1972 (72 COLREGS) without interfering with its special function as a naval ship. The intended effect of this notice is to warn mariners in waters where 72 COLREGS apply.

DATES: This Certificate of Alternate Compliance is effective May 6, 2025 and is applicable beginning October 1, 2024.

FOR FURTHER INFORMATION CONTACT: Lieutenant Commander Jeffrey M. Larson, JAGC, U.S. Navy, Admiralty Attorney, Office of the Judge Advocate General, Admiralty and Claims Division (Code 15A), 1322 Patterson Ave. SE, Suite 3000, Washington Navy Yard, DC 20374-5066, 202-685-5040, or ojagcode15admiralty@us.navy.mil.

SUPPLEMENTARY INFORMATION:

Background and Purpose

Executive Order (E.O.) 11964 of January 19, 1977 and 33 U.S.C. 1605 provide that the requirements of 72 COLREGS as to the number, position, range, or arc of visibility of lights or shapes, as well as to the disposition and characteristics of sound-signaling appliances, shall not apply to a vessel or class of vessels of the Navy where the Secretary of the Navy shall find and certify that, by reason of special construction or purpose, it is not possible for such vessel(s) to comply fully with the provisions without interfering with the special function of the vessel(s). Notice of issuance of a Certificate of Alternate Compliance must be made in the Federal Register.

In accordance with 33 U.S.C. 1605, the Admiralty Counsel of the Navy, under authority delegated by the Secretary of the Navy, hereby finds and certifies that USS Cleveland (LCS 31) is a vessel of special construction or purpose, and that, with respect to the position of the following navigational lights, it is not possible to comply fully with the requirements of the provisions enumerated in 72 COLREGS without interfering with the special function of the vessel:

Annex I, paragraph 2(a)(i), pertaining to the vertical position of the forward masthead light; Annex I, paragraph 3(a), pertaining to the position of the forward masthead light with relation to the stern of the vessel; Annex I, paragraph 3(a), pertaining to the horizontal separation between the forward and aft masthead lights; and Annex I, paragraph 2(i)(i) pertaining to spacing of vertically positioned lights.

The Admiralty Counsel of the Navy further finds and certifies that these navigational lights are in closest possible compliance with the applicable provision of 72 COLREGS.

(Authority: 33 U.S.C. 1605(c), E.O. 11964.)

Dated: April 30, 2025.
R.A. Kennedy,
Lieutenant Commander, Judge Advocate General's Corps, U.S. Navy, Federal Register Liaison Officer.

[FR Doc. 2025-07824 Filed 5-5-25; 8:45 am]

BILLING CODE 3810-FF-P